FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 18, 2012.

A. Federal Reserve Bank of Chicago (Colette A. Fried, Assistant Vice President) 230 South LaSalle Street, Chicago, Illinois 60690-1414:

1. Ann Kennedy Irish, as trustee of the Ann Kennedy Irish Trust; the Ann Kennedy Irish Trust; David H. Irish; as trustee of the David H. Irish Trust; the David H. Irish Trust, all of Harbor Springs, Michigan; Tracy Irish Texter, John F. Texter, as trustees of the John F. Texter and Tracy I. Texter Trust; the John F. Texter and Tracy I. Texter Trust, all of Middleville, Michigan; Susan Irish Stewart, as trustee of the Susan Irish Stewart Revocable Intervivos Trust; the Susan Irish Stewart Revocable Intervivos Trust, all of Harbor Springs, Michigan; Colin David Irish, Marquette, Michigan; Perry Irish Hodgson; Alexander Irish Hodgson; Raymond Earhart Hodgson, all of Charlevoix, Michigan; Liam Foster Hodgson, Beaver Island, Michigan; all as members of the Irish and Hodgson Family Control Group to retain voting shares of Charlevoix First Corporation, and thereby indirectly retain voting shares of Charlevoix State Bank, both in Charlevoix, Michigan.

B. Federal Reserve Bank of St. Louis (Yvonne Sparks, Community Development Officer) P.O. Box 442, St. Louis, Missouri 63166-2034:

1. Thomas H. Brouster, Sr., St. Louis, Missouri, acting individually, and in concert with a control group which consists of Thomas H. Brouster Trust TTE; Thomas H. Brouster Family Trust and Meredith E. Brouster Trust, Brouster & Associates, LLC; Thomas H. Brouster Consulting Pension Trust; and Thomas H. Brouster Consulting Pension Trust II; Lawrence P. Keeley, Jr.; Allan D. Ivie, IV; Allan D. Ivie, IV Self Directed IRA; David Sindelar, all of St. Louis, Missouri; Gaines S. Dittrich Self Directed IRA; Gaines S. Dittrich, Trustee of The Gaines S. Dittrich Revocable Trust dated May 6, 1997, as amended; and Dittrich & Associates, all of Rogers, Arkansas; Robert M. Cox, Jr., Frontenac, Missouri; Dr. Richard M. Demko, Chesterfield, Missouri; Scott A. Sachtleben, Belleville, Illinois; Robert K. Jakel Living Trust; Robert Jakel Trustee; Eric K. Jakel as trustee of the Eric K. Jakel Living Trust u/a dated 6/6/85, all of Highland, Illinois; Sterling K. Jakel Living Trust dated 5/3/85, Sterling Jakel Trustee, Naples, Florida; Otto K. Jakel Living Trust dated 11/26/91; Otto K. Jakel Trustee, all of Clarmont, Georgia; Gordon Jakel, Scottsdale, Arizona; John W. Bradley Revocable Living Trust dated 2/19/92; John B. Bradley Revocable Living Trust dated 12/12/07, John Bradley, Trustee, all of Kirkwood, Missouri; and Ned Stanley, Ladue, Missouri; to acquire voting shares of Reliance Bancshares, Inc., Des Peres, Missouri, and thereby indirectly acquire voting shares of Reliance Bank, St. Louis, Missouri.

Board of Governors of the Federal Reserve System, November 28, 2012.
Michael J. Lewandowski,
Assistant Secretary of the Board.

[FR Doc. 2012-29110 Filed 11-30-12; 8:45 am]

BILLING CODE 6210-01-P